DEPARTMENT OF TRANSPORTATION

Federal Aviation Administration

Notice of Opportunity for Public Comment on a Proposed Change of Airport Property Land Use From Aeronautical to Non-Aeronautical Use at Ardmore Municipal Airport, Ardmore, OK

AGENCY: Federal Aviation Administration (FAA), DOT.

ACTION: Notice.

SUMMARY: The FAA is considering a request from Ardmore Development Authority to change approximately 5 acres, located at 615 Grumman Street, in the Southwest quadrant of the airport from aeronautical use to non-aeronautical use and to authorize the conversion of the airport property.

DATES: Comments must be received on or before April 13, 2020.

ADDRESSES: Send comments on this document to Mr. Glenn Boles, Federal Aviation Administration, Arkansas/Oklahoma Airports District Office Manager, 10101 Hillwood Parkway, Fort Worth, TX 76177.

FOR FURTHER INFORMATION CONTACT: Ms. Mita Bates, President of Ardmore Development Authority, 410 W Main Street, Ardmore, OK 73401, telephone 580-223-7765; or Mr. Glenn Boles, Federal Aviation Administration, Arkansas/Oklahoma Airports District Office Manager, 10101 Hillwood Parkway, Fort Worth, TX 76177, telephone (817) 222-5630. Documents reflecting this FAA action may be reviewed at the above locations.

SUPPLEMENTARY INFORMATION: The proposal consists of a parcel of land which is part of over 2,000 acres of land constituting the Ardmore Municipal Airport. The citizens of Ardmore approved a $100,000 bond issued in 1942 to purchase 1,416 acres of land and the United States Government contributed 650 acres to develop the 2,066 acres for the Ardmore Army Airfield. The base was operated as a training base during World War II and closed October 31, 1945. In 1946, the United States Government declared the base surplus property. The War Assets Administration issued a quit claim deed in 1948 which included the land, 2085.28 acres and all thereon. As a result of the Korean War, the base was reactivated on September 1, 1953 and renamed Ardmore Air Force Base. It was operated until January 1959, and officially closed again on March 31, 1959, and transferred back to Ardmore under a quit claim deed. The land comprising this parcel is outside the forecasted need for aviation development and is no longer needed for indirect or direct aeronautical use. The Airport wishes to develop this land for compatible commercial, non-aeronautical use. The Airport will retain ownership of this land and ensure the protection of Part 77 surfaces and compatible land use. Income from the conversion of these parcels will benefit the aviation community by reinvestment in the airport.

Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with section 47107(h) of Title 49, United States Code, this notice is required to be published in the Federal Register 30 days before modifying the land-use assurance that requires the property to be used for an aeronautical purpose.

Issued in Fort Worth, TX.
Ignacio Flores,
Director, Airports Division, FAA, Southwest Region.

[FR Doc. 2020-05122 Filed 3-12-20; 8:45 am]

BILLING CODE 4910-13-P